DEPARTMENT OF THE INTERIOR

Fish and Wildlife Service

Availability of Draft Comprehensive Conservation Plan and Environmental Assessment for Mark Twain National Wildlife Refuge Complex in Iowa, Illinois and Missouri

AGENCY: U.S. Fish and Wildlife Service, Interior.

ACTION: Notice of availability.

SUMMARY: Pursuant to the Refuge Improvement Act of 1997, the U.S. Fish and Wildlife Service has published a draft Comprehensive Conservation Plan and Environmental Assessment for Mark Twain National Wildlife Refuge Complex (Complex). This Plan describes how the Service intends to manage the Refuge Complex for the next 15 years.

DATES: Comments must be received by September 30, 2003. All comments should be addressed to Mark Twain National Wildlife Refuge Complex, Attention: CCP Comment, 1704 North 24th Street, Quincy, Illinois 62301, or direct e-mail to r3planning@fws.gov. Comments may also be submitted through the Service's regional Web site at http://midwest.fws.gov/planning.

ADDRESSES: A draft Plan or summary may be obtained by writing to the Service or submitting a request electronically. These documents will also be made available in portable document format (pdf) on the U.S. Fish and Wildlife Service Web site at http://midwest.fws.gov/planning. Address requests to: U.S. Fish & Wildlife Service, Branch of Ascertainment and Planning, Attn: CCP Comment, BHW Federal Building, 1 Federal Drive, Ft. Snelling, MN, 55111; or direct e-mail to r3planning@fws.gov.

FOR FURTHER INFORMATION CONTACT: For additional information on the draft comprehensive conservation plan and environmental assessment, contact Dick Steinbach, Complex Manager, at the address above or call the Refuge at 217/224-8580.

SUPPLEMENTARY INFORMATION: In 1997, Congress mandated that the Service prepare a comprehensive conservation plan for each refuge within the National Wildlife Refuge System. Comprehensive conservation plans guide management decisions over the course of 15 years. The Mark Twain NWR Complex includes Port Louisa NWR, Great River NWR, Clarence Cannon NWR, Two Rivers NWR, and Middle Mississippi River NWR, which are all located along the Upper Mississippi River. The Draft Plan identifies goals and objectives for habitat management, land protection and wildlife-dependent recreation, as well as strategies for achieving those goals and objectives.

Dated: September 6, 2002.
William F. Hartwig,
Regional Director.

[FR Doc. 03-19484 Filed 7-30-03; 8:45 am]

BILLING CODE 4310-55-P